NUCLEAR REGULATORY COMMISSION

[Docket Nos. 50-390-CivP, 50-327-CivP, 50-328-CivP, 50-259-CivP, 50-260-CivP, 50-296-CivP (EA 99-234); ASLBP No. 04-830-01-R]

Tennessee Valley Authority, Watts Bar Nuclear Plant, Unit 1, Sequoyah Nuclear Plant, Units 1 and 2, Browns Ferry Nuclear Plant, Units 1, 2 and 3; Establishment of Atomic Safety and Licensing Board

Pursuant to delegation by the Commission dated December 29, 1972, published in the Federal Register, 37 FR 28710 (1972), and §§ 2.205, 2.700, 2.702, 2.714, 2.714a, 2.717, 2.721, and 2.772(j) of the Commission's Regulations (as they were in effect prior to February 13, 2004), an Atomic Safety and Licensing Board is being established to preside over the following proceeding: Tennessee Valley Authority Watts Bar Nuclear Plant, Unit 1 Sequoyah Nuclear Plant, Units 1 & 2 Browns Ferry Nuclear Plant, Units 1, 2 & 3 Order Imposing Civil Monetary Penalty.

This Board is being established pursuant to the August 18, 2004 Commission memorandum and order (CLI-04-24, 60 NRC _ (Aug. 18, 2004)) remanding for further proceedings this matter regarding the request of the Tennessee Valley Authority (TVA), the licensee for the Watts Bar (Unit 1), Sequoyah (Units 1 and 2), and Browns Ferry (Units 1, 2 and 3) Nuclear Plants, for a hearing challenging an Order issued by the Director, Office of Enforcement, dated May 4, 2001, entitled “Order Imposing Civil Monetary Penalty” (65 FR 27166 (May 4, 2001)).

The Board is comprised of the following administrative judges:

Charles Bechhoefer, Chairman, Atomic Safety and Licensing Board Panel, U.S. Nuclear Regulatory Commission, Washington, DC 20555-0001.

Dr. Richard F. Cole, Atomic Safety and Licensing Board Panel, U.S. Nuclear Regulatory Commission, Washington, DC 20555-0001.

Ann Marshall Young, Atomic Safety and Licensing Board Panel, U.S. Nuclear Regulatory Commission, Washington, DC 20555-0001.

All correspondence, documents and other materials shall be filed with the Panel Judges in accordance with 10 CFR 2.701.

Issued at Rockville, Maryland, this 14th day of September 2004.
G. Paul Bollwerk, III,
Chief Administrative Judge, Atomic Safety and Licensing Board Panel.

[FR Doc. 04-21255 Filed 9-21-04; 8:45 am]

BILLING CODE 7590-01-P